DEPARTMENT OF TRANSPORTATION

[Docket Number: DOT-OST-2024-0120]

RIN 2105-AF17

USDOT Federal Flood Risk Management Standard (FFRMS) Interim Guidelines

AGENCY: Office of the Secretary, DOT.

ACTION: Notice of availability; request for comments.

SUMMARY: The impacts of flooding affect the environment, economic prosperity, and public health and safety across the Nation. The Federal Flood Risk Management Standard (FFRMS) seeks to improve the resilience of communities and Federal assets against the impacts of flooding from extreme events and climate change. DOT has developed these FFRMS Interim Guidelines to advance the goals of the FFRMS and to outline the steps DOT is taking to implement the FFRMS across the Department.

DATES: Comments due by February 18, 2025.

ADDRESSES: You may send comments, identified by docket number DOT-OST-2024-0120 by the following method:

• Federal eRulemaking Portal: http://www.regulations.gov. Follow the instructions for sending comments.

FOR FURTHER INFORMATION CONTACT: Heather Holsinger, 202-366-6263, Heather.Holsinger@dot.gov.

SUPPLEMENTARY INFORMATION:

Contents:

I. Definitions

II. Background

III. Purpose

IV. Interim Guidelines

V. Exemptions And Exceptions

VI. Resources

Authority: Executive Order 11988, Floodplain Management, among other authorities listed in the interim guidelines.

I. Definitions

For these Interim Guidelines the following definitions apply:

A. Action: The term `action' means the construction, reconstruction, rehabilitation, or repair of a Federal or federally financed, licensed, or approved transportation improvement (including any relocation housing built or moved to a new site); and the acquisition, management, or disposition of Departmental lands and facilities. (DOT Order 5650.2)

B. Critical Action: The term `critical action' means any activity for which even a slight chance of flooding would be too great. (E.O. 13690).

C. Base flood: The term `base flood' means that flood having a 1 percent chance of being exceeded in any given year (commonly known as a 100-year flood). (DOT Order 5650.2)

D. Base floodplain: The term `base floodplain' means the area which would be inundated by a base flood. (DOT Order 5650.2)

E. Encroachment: The term `encroachment' means an action within the limits of the base floodplain. (DOT Order 5650.2).

F. Facility: The term `facility' means any element of the built environment other than a walled or roofed building. (DOT Order 5650.2).

G. FFRMS floodplain: The term `FFRMS floodplain' means the area subject to flooding as determined by one of the following approaches (E.O. 13690):

• Climate-informed Science Approach (CISA): The elevation and flood hazard area that results from using a climate-informed science approach that uses the best-available, actionable hydrologic and hydraulic data and methods that integrate current and future changes in flooding based on climate science; or

• Freeboard Value Approach (FVA): The elevation and flood hazard area that results from adding an additional 2 feet to the Base Flood Elevation (BFE) and expanding to the corresponding horizontal extent for non-critical actions, and by adding an additional 3 feet to the BFE and expanding to the corresponding horizontal extent for critical actions; or

• 0.2-percent-annual-chance Flood Approach (0.2PFA): The area subject to flooding by the 0.2 percent annual chance flood (also known as the 500-year flood).

H. Natural and Beneficial Floodplain Values: The term “Natural and beneficial floodplain values' means values that include but are not limited to: natural moderation of floods, water quality maintenance, groundwater recharge, fish, wildlife, plants, open space, natural beauty, scientific study, outdoor recreation, agriculture, aquaculture, and forestry. (DOT 5650.2).

I. Practicable: The term `practicable' means capable of being done within natural, social, and economic constraints. (DOT 5650.2).

J. Resilience: The term `resilience,' with respect to a project, means the ability to anticipate, prepare for, or adapt to conditions or withstand, respond to, or recover rapidly from disruptions, including the ability to: (A) resist hazards or withstand impacts from weather events and natural disasters; or reduce the magnitude or duration of impacts of a disruptive weather event or natural disaster on a project; and (B) have the absorptive capacity, adaptive capacity, and recoverability to decrease project vulnerability to weather events or other natural disasters. (23 U.S.C. 101(a)(24)).

K. Significant Encroachment: The term `significant encroachment' means an action within the limits of the base floodplain resulting in one or more of the following construction or flood-related impacts:

• A considerable probability of loss of human life;

• Likely future damage associated with the encroachment that could be substantial in cost or extent, including interruption of service on or loss of a vital transportation facility; and

• A notable adverse impact on “natural and beneficial floodplain values”, as defined above.

It is not contemplated that detailed design would be necessary in order to determine whether there is a significant encroachment (DOT 5650.2; see also 23 CFR 650.105(q)).

II. Background

Flood risks impact our environment, economic prosperity, public health, and safety. Floods can lead to damaged roads, bridges, rail systems, and other transportation infrastructure, and threaten the long-term investments that Federal, State, and local governments are making in transportation infrastructure. Flooding may also result in disrupted transit service or closed roads, potentially limiting access to key evacuation routes during extreme weather events. Climate change is expected to continue to have significant impacts on current and future flood risks, with associated increases in flood damages and risk to human life in many areas of the United States.

A unified Federal approach to address the impacts of flooding began in 1966, with President Johnson's Executive Order (E.O.) 11296 (Floodplain Management). President Carter's E.O. 11988 (Floodplain Management) (May 24, 1977) was executed in order to avoid, to the extent possible, the long- and short-term adverse impacts associated with the occupancy and modification of floodplains and to avoid direct or indirect support of floodplain development wherever there is a practicable alternative. E.O. 11988 provided the definitions for “base flood” as a flood which has a one percent or greater chance of occurrence in any given year and “floodplain” as the lowland and relatively flat areas adjoining inland and coastal waters including floodprone areas of offshore islands, including at a minimum, that area subject to a one percent or greater chance of flooding in any given year. E.O. 11988 requires agencies to take action to reduce the risk of flood loss, to minimize the impact of floods on human safety, health and welfare, and to restore and preserve the natural and beneficial values served by floodplains. This includes avoiding siting an action within the base floodplain, unless it is the only practicable alternative, and in those cases designing or modifying the action to minimize potential harm to or within the floodplain.

Federal agencies have implemented and complied with E.O. 11988 through various Orders, regulations, and guidance applicable to their specific missions. For example, USDOT Order 5650.2 (Floodplain Management) sets forth policies and procedures applicable to all USDOT operational agencies for the avoidance and mitigation of adverse floodplain impacts in agency actions, planning programs, and budget requests. Agency floodplain policies and procedures are closely aligned with the National Environmental Policy Act (NEPA) process and documented within an action's NEPA review. Complying with the requirements of USDOT Order 5650.2 (or any USDOT Operating Administration equivalent) ensures that USDOT actions and actions of recipients of USDOT funds or approvals align with E.O. 11988.

On January 30, 2015, in order to improve the Nation's resilience to current and future flood risk, President Obama issued E.O. 13690 establishing a Federal Flood Risk Management Standard (FFRMS) which is a flexible framework to incorporate the most recent climate science into planning, NEPA procedures, and other processes for all federally funded actions. E.O. 13690 was revoked by E.O. 13807 on August 15, 2017, by President Trump. On May 20, 2021, President Biden issued E.O. 14030 that reinstated E.O. 13690 thereby reestablishing the FFRMS. Building on existing floodplain management requirements, the FFRMS takes into account changing flood hazards due to climate change and other processes (e.g., land use), redefining the base floodplain using one of three approaches to determine the vertical flood elevation and corresponding horizontal extent of the floodplain. (i.e., the FFRMS floodplain).

III. Purpose

The USDOT is implementing E.O. 11988, as amended by E.O. 13690, by integrating the principles of all Executive Orders and the FFRMS into the Department's activities, policies, and programs, consistent with applicable law and subject to the availability of appropriations. USDOT is taking the following steps to implement the FFRMS in USDOT actions and programs:

• Including the FFRMS in applicable USDOT discretionary grant criteria or selection considerations: USDOT has included language in many BIL discretionary grant Notice of Funding Opportunities (NOFOs) indicating that applications should describe if projects will be constructed consistent with the FFRMS, to the extent consistent with current law. This provides applicants with an opportunity to better understand the potential risks from future flooding for these projects, as well as to demonstrate the steps they are taking to address those risks for proposed projects. (Timeframe: Ongoing)

• New USDOT Floodplains Management and Protection Rulemaking: USDOT is initiating a rulemaking, to provide the requirements that USDOT actions must consider when evaluating proposed transportation infrastructure located within a designated floodplain, including avoidance and mitigation of adverse floodplain impacts using the FFRMS. (Timeframe: Expected completion in 2025)

• Updating USDOT Order 5620.2: USDOT will revise DOT Order 5650.2 to reflect E.O. 13690 and the FFRMS along with the anticipated Floodplains Management and Protection Final Rule. Anticipated revisions include updating the overall policy to reflect USDOT's intent to improve the resilience of transportation infrastructure against the impacts of current and future flooding; to use the Climate-informed Science Approach (CISA), where appropriate, to determine floodplain risk; and, where possible, to use natural systems, ecosystem processes, and nature-based approaches when developing alternatives for consideration. USDOT will update Order 5650.2 concurrently with the new USDOT Floodplains Management and Protection rulemaking (Timeframe: Expected completion in 2025).

• Operating Administration Updates to Policies and Programs: As the Department proceeds with its update to USDOT Order 5650.2 and the new USDOT Floodplains Management and Protection rulemaking, USDOT's Operating Administrations are reviewing their existing programs and policies to incorporate the FFRMS, as appropriate, and to identify any additional resources or guidance that may be needed.

USDOT is issuing these Interim Guidelines to advance the goals of the FFRMS as we complete the steps outlined above to fully implement the FFRMS and all relevant provisions included in E.O. 14030 and E.O. 13690. USDOT anticipates that these Interim Guidelines will be superseded by the forthcoming USDOT Floodplains Management and Protection rulemaking and the update to USDOT Order 5620.2.

USDOT encourages the use of currently available USDOT and other Federal resources and tools (such as FHWA's HEC-17 and HEC-25, and other resources referenced in these Interim Guidelines) to apply FFRMS approaches to improve the resilience of projects. Moreover, the Department intends to conduct extensive stakeholder engagement to ensure that our resilience initiatives are responsive to the needs of our partners as we work toward full implementation of the FFRMS in our actions and programs. During this interim period, USDOT encourages the public to submit questions and provide feedback via https://www.regulations.gov/.

IV. Interim Guidelines

The USDOT is committed to integrating climate resilience and risk management approaches into all phases of transportation decision making, including planning, environmental review/NEPA, final design, construction, operations, and monitoring and maintenance. As part of this commitment, the USDOT encourages all actions (i.e., the construction or reconstruction of a Federal or federally financed, licensed, or approved transportation improvement) to determine if that action is within the FFRMS floodplain, to adopt measures that address and manage identified flood risk, and to document these analyses in the NEPA ¹ environmental review process for the action. In developing these analyses, the FFRMS floodplain should be established using one of the following approaches:

¹ 42 U.S.C. 4321 et seq.

• Climate-informed Science Approach (CISA). The elevation and flood hazard area (i.e., geographic extent of the elevation's corresponding floodplain) that results from using a climate-informed science approach that uses the best-available, actionable hydrologic and hydraulic data and methods that integrate current and future changes in flooding based on climate science. This approach will also include an emphasis on whether the action is a significant encroachment as one of the factors to be considered when conducting the analysis.

• Freeboard Value Approach (FVA). The elevation and flood hazard area that results from adding an additional 2 feet to the Base Flood Elevation (BFE) and expanding to the corresponding horizontal extent for non-critical actions, and by adding an additional 3 feet to the BFE and expanding to the corresponding horizontal extent for critical actions.

• 0.2-Percent-annual-chance Flood Approach (0.2PFA) The area subject to flooding by the 0.2 percent annual chance flood (also known as the 500-year flood).

Consistent with USDOT's support for incorporating future climate risk exposure within our overall programs, USDOT prefers the CISA to establish the FFRMS floodplain when data to support such an analysis is available.

USDOT recognizes that each action may necessitate application of the approach best suited for its location, taking into consideration unique characteristics and risks associated with that action, as well as available data. For example, where CISA data is not available or is not actionable, projects may use the FVA or the 0.2 PFA to identify the FFRMS floodplain. In using the FVA instead of CISA, project proponents and reviewers should consider whether the application of two feet (or three feet) of freeboard suitably captures any associated flood risk ² and consider modifications as appropriate.³ In addition, when considering the 0.2 PFA approach, note that (1) approximately only 20 percent of FEMA Flood Insurance Rate Maps (FIRMs) maps include the 500-year floodplain and (2) in the coastal scenario, the 500-year floodplain may not include the added risk of wave effects. Sponsors of Departmental actions should consider these elements as they select a particular approach to establishing the FFRMS floodplain.

² The FVA does not account for differences in local conditions or future flood risks associated with climate change.

³ See FHWA's HEC-17 and HEC-25 for examples of considerations to take into account with regards to extreme weather and climate change when siting transportation infrastructure in the riverine and coastal environment.

USDOT has existing resources in place to advance the goals of the FFRMS and assist sponsors of USDOT-funded actions in establishing the FFRMS floodplain. These resources and tools, combined with existing floodplain regulations, provide options on the many opportunities to build resilience to flooding into the planning and construction of transportation projects. For example, FHWA has developed and continues to refine a range of procedures, tools, and guidance documents to help transportation agencies address climate change when designing roads, bridges, culverts, and drainage infrastructure. This includes revising projected climate risks associated with floods and severe storms. USDOT encourages sponsors of USDOT-funded actions to consult these and other resources for technical guidance on incorporating resilience principles in transportation infrastructure design (See Section F on Resources). In addition, USDOT is coordinating with the Council on Environmental Quality and other Federal agencies in the development of additional guidance and tools to assist sponsors of federally funded actions in implementing the FFRMS.

These interim guidelines do not have the force and effect of law and are not meant to bind the public in any way. This document is intended only to provide interim guidance to the public regarding how to establish the FFRMS floodplain under E.O. 13690 and to describe the steps USDOT is taking to fully implement the FFRMS across its actions and programs. It will not be deemed to create any right, benefit or trust obligation either substantive or procedural, enforceable by any person, or entity in any court against USDOT agencies, its officers, or any other person. Compliance with this guidance will not be justiciable in any proceedings for judicial review of USDOT agency action.

V. Exceptions and Simplified Reviews for Certain Classes of Actions

The head of a USDOT Operating Administration (e.g., Federal Highway Administration, Federal Transit Administration, etc.) may except an agency action from the FFRMS floodplain requirement where it is in the interest of national security, where the agency action is an emergency action, where application to a Federal facility or structure is demonstrably inappropriate, or where the agency action is a mission-critical requirement related to a national security interest or an emergency action. When an agency action is excepted because it is in the interest of national security, it is an emergency action, or it is a mission-critical requirement related to a national security interest or an emergency action, the Operating Administration head shall rely on the area of land subject to the base flood. (i.e., 1 percent annual chance).

In addition, with the promulgation of a USDOT floodplain management and protection regulation and update to Order 5650.2 that incorporates the FFRMS, USDOT Operating Administrations may identify individual actions, or categories of actions, which would have shortened or altered decision making processes (for example, those with limited potential to adversely affect the floodplain). USDOT Operating Administration may also conduct general review of activities in lieu of site-specific reviews for certain actions and class reviews of certain repetitive actions.

VI. Resources

Executive Office of the President

• E.O. 11988 Floodplain Management. Available at: https://www.federalregister.gov/executive-order/11988 Last accessed November 1, 2024.

• E.O. 13690 Establishing Federal Flood Risk Management Standard and a Process for Further Soliciting and Considering Stakeholder Input. Available at: https://www.federalregister.gov/documents/2015/02/04/2015-02379/establishing-a-federal-flood-risk-management-standard-and-a-process-for-further-soliciting-and Last accessed November 1, 2024

• E.O. 13990 Protecting Public Health and the Environment and Restoring Science to Tackle the Climate Crisis. Available at: https://www.federalregister.gov/documents/2021/01/25/2021-01765/protecting-public-health-and-the-environment-and-restoring-science-to-tackle-the-climate-crisis Last accessed November 1, 2024

• E.O. 14008 Tackling the Climate Crisis at Home and Abroad. Available at: https://www.federalregister.gov/documents/2021/02/01/2021-02177/tackling-the-climate-crisis-at-home-and-abroad Last accessed November 1, 2024

• E.O. 14030 Climate-Related Financial Risk. Available at: https://www.federalregister.gov/documents/2021/05/25/2021-11168/climate-related-financial-risk Last accessed November 1, 2024.

• Climate Mapping for Resilience and Adaptation (CMRA). CMRA integrates information from across the federal government on local exposure to climate-related hazards, including flood risk and sea level rise projections. Available at: https://resilience.climate.gov/. Last accessed November 1, 2024.

• Federal Flood Risk Management Standard, Appendix G of October 2015 Implementation Guidelines. Available at: https://www.fema.gov/sites/default/files/documents/fema_IGA-appendices-a-h_10082015.pdf. Last accessed November 1, 2024.

• Federal Flood Risk Management Standard Climate-Informed Science Approach (CISA)—State of the Science Report. This report provides a review and update of the best-available, actionable science that can support application of the Climate-Informed Science Approach (CISA), reflecting science and technology advancements made since E.O. 13690 was issued in 2015. Available at: https://www.whitehouse.gov/wp-content/uploads/2023/03/Federal-Flood-Risk-Management-Standard-Climate-Informed-Science-Approach-CISA-State-of-the-Science-Report.pdf. Last accessed November 1, 2024.

• FFRMS Floodplain Determination Job Aid. The Flood Resilience Interagency Working Group released this FFRMS Floodplain Determination Job Aid to support agencies' implementation of federal flood programs and regulations, including FFRMS. Available at: https://www.fema.gov/sites/default/files/documents/fema_ffrms-floodplain-determination-job-aid.pdf. Last accessed November 1, 2024.

• Federal Flood Standard Support Tool. The White House Flood Resilience Interagency Working Group developed a Federal Flood Standard Support Tool (FFSST) to enable users to identify the FFRMS floodplain more easily. Available at: https://floodstandard.climate.gov/. Last accessed November 1, 2024.

United States Department of Transportation

• USDOT Order 5650.2. Floodplain Management and Protection. Available at: https://www.transit.dot.gov/sites/fta.dot.gov/files/docs/Floodplain.pdf. Last accessed November 1, 2024.

• FAA Order 1050.1F Desk Reference (v2), Chapter 14 Water Resources, Section 14.2 Floodplains. Available at: https://www.faa.gov/sites/faa.gov/files/about/office_org/headquarters_offices/apl/14-water-resources.pdf. Last accessed November 1, 2024.

• FHWA Hydraulic Engineering Circular (HEC) 25, “Highways in the Coastal Environment”. Provides technical guidance and methods for assessing the vulnerability of roads and bridges to extreme events and climate change in coastal areas, focusing on sea level rise, storm surge, and waves. Available at https://www.fhwa.dot.gov/engineering/hydraulics/pubs/hif19059.pdf. Last accessed November 1, 2024.

• FHWA Hydraulic Engineering Circular (HEC) 17, “Highways in the River Environment—Floodplains, Extreme Events, Risk and Resilience”. Provides technical guidance and methods for assessing the vulnerability of transportation facilities to extreme events and climate change in riverine environments. Available at https://www.fhwa.dot.gov/engineering/hydraulics/pubs/hif16018.pdf. Last accessed November 1, 2024.

• FHWA Nature-Based Solutions for Coastal Highway Resilience: An Implementation Guide. This guide follows the steps in the transportation project delivery process, providing information on planning, site assessment, design, permitting, construction, monitoring, maintenance, and adaptive management of nature-based solutions in the transportation context. Available at: https://www.fhwa.dot.gov/environment/sustainability/resilience/ongoing_and_current_research/green_infrastructure/implementation_guide/fhwahep19042.pdf. Last accessed November 1, 2024.

• FHWA Transportation Engineering Approaches to Climate Resiliency (TEACR) Synthesis report and case studies. This report synthesizes lessons learned and innovations from recent FHWA studies and pilots to help transportation agencies address changing climate conditions and extreme weather events at the asset level. It is designed to provide needed information to a range of engineering disciplines to integrate climate considerations into transportation project development. Available at: https://www.fhwa.dot.gov/environment/sustainability/resilience/ongoing_and_current_research/teacr/synthesis/. Last accessed November 1, 2024.

• US DOT Gulf Coast 2 Study. The Gulf Coast Study produced tools and lessons learned that transportation agencies across the country are using to assess vulnerabilities and build resilience to climate change. Available at: https://www.fhwa.dot.gov/environment/sustainability/resilience/ongoing_and_current_research/gulf_coast_study/index.cfm. Last accessed November 1, 2024.

• FHWA Post-Hurricane Sandy Transportation Resilience Study in New York, New Jersey, and Connecticut. Study intended to inform transportation agency efforts to address changing climate conditions and extreme weather events from a regional planning level to facility level assessments. Available at: https://www.fhwa.dot.gov/environment/sustainability/resilience/publications/hurricane_sandy/fhwahep17097.pdf. Last accessed November 1, 2024.

• FHWA Resilience Pilots. FHWA has partnered with State Departments of Transportation (DOTs), Metropolitan Planning Organizations (MPOs) and others on 46 pilot projects to develop and deploy resilience solutions to current and future extreme weather events. Available at: https://www.fhwa.dot.gov/environment/sustainability/resilience/pilots/ Last accessed November 1, 2024.

• CMIP Climate Data Processing Tool 2.1. Accesses and calculates climate projections for temperature and precipitation variables. Available at: https://www.fhwa.dot.gov/engineering/hydraulics/software/cmip_processing_tool_version2.cfm. Last accessed November 1, 2024.

• FHWA NHI course FHWA-NHI-135082 Highways in the Coastal Environment. Available at: https://www.nhi.fhwa.dot.gov/course-search?tab=0&key=135082&sf=0&course_no=135082. Last accessed November 1, 2024.

• FHWA NHI course FHWA-NHI-135082A Future Sea Levels for the Design of Highways in the Coastal Environment. Available at: https://www.nhi.fhwa.dot.gov/course-search?tab=0&key=FHWA-NHI-135082&sf=0&course_no=135082A Last accessed November 1, 2024.

• FHWA NHI Course FHWA-NHI-135082C Water Levels for the Design of Highways in the Coastal Environment. Available at: https://www.nhi.fhwa.dot.gov/course-search?tab=0&key=FHWA-NHI-135082&sf=0&course_no=135082C Last accessed November 1, 2024.

• FHWA NHI Course FHWA-NHI-142085A Addressing Climate Resilience in Highway Project Development and Preliminary Design. Available at: https://www.nhi.fhwa.dot.gov/course-search?tab=0&key=FHWA-NHI-135082&sf=0&course_no=135082C Last accessed November 1, 2024.

• FHWA NHI Course FHWA-NHI-142081 Understanding Past, Current and Future Climate Conditions. Available at: https://www.nhi.fhwa.dot.gov/course-search?tab=0&key=142081&sf=0&course_no=142081 Last accessed November 1, 2024.

• FHWA NHI Course FHWA-NHI-142082 Introduction to Temperature and Precipitation Projections. Available at: https://www.nhi.fhwa.dot.gov/course-search?tab=0&key=142082&sf=0&course_no=142082 Last accessed November 1, 2024.

• FHWA NHI Course FHWA-NHI-142083 Systems Level Vulnerability Assessments. Available at: https://www.nhi.fhwa.dot.gov/course-search?tab=0&key=142083&sf=0&course_no=142083 Last accessed November 1, 2024.

• FHWA NHI Course FHWA-NHI-142084 Adaptation Analysis for Project Decision Making. Available at: https://www.nhi.fhwa.dot.gov/course-search?tab=0&key=142084&sf=0&course_no=142084 Last accessed November 1, 2024.

• FTA Hazard Mitigation Cost Effectiveness Tool. Resilience benefit cost tool enables transit agencies to conduct a robust cost-benefit analysis of resilience projects being considered for funding, leading to informed decisions on the benefits of investing in resilience projects. Available at: https://www.transit.dot.gov/funding/grant-programs/emergency-relief-program/hazard-mitigation-cost-effectiveness-hmce-tool Last accessed November 1, 2024.

• FTA Emergency Relief Manual. Available at: https://www.transit.dot.gov/funding/grant-programs/emergency-relief-program/emergency-relief-manual-reference-manual-states Last accessed November 1, 2024.

• FTA Transit and Climate Change Adaptation: Synthesis of FTA-Funded Pilot Projects. Available at: https://www.transit.dot.gov/sites/fta.dot.gov/files/FTA_Report_No._0069_0.pdf Last accessed November 1, 2024.

• FTA Transit Resilience Guidebook. Presents recommendations and examples of how to identify and address climate vulnerabilities and risks and build resilience into transit assets throughout the life-cycle process. Available at: https://www.transit.dot.gov/research-innovation/ftas-transit-resilience-guidebook Last accessed November 1, 2024.

December 12, 2024.
Ann Shikany,
Deputy Assistant Secretary for Policy.

[FR Doc. 2024-29801 Filed 12-16-24; 8:45 am]

BILLING CODE 4910-9X-P